DEPARTMENT OF HOMELAND SECURITY

Federal Emergency Management Agency

[Docket ID FEMA-2026-0002; Internal Agency Docket No. FEMA-B-2580]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before April 29, 2026.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2580, to David N. Bascom, Acting Director, Engineering and Modeling Division, National Flood Insurance Program, Resilience, FEMA, 400 C Street SW, Washington, DC 20472, or (email) david.bascom@fema.dhs.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience, Federal Emergency Management Agency, Department of Homeland Security.

Community | Community map repository address
Chautauqua County, New York (All Jurisdictions)
Project: 21-02-0002S Preliminary Date: May 14, 2025
City of Dunkirk | City Hall, 342 Central Avenue, Dunkirk, NY 14048.
City of Jamestown | City Hall, 200 E 3rd Street, Jamestown, NY 14701.
Town of Arkwright | Arkwright Town Hall, 9543 Center Road, Fredonia, NY 14063.
Town of Busti | Busti Town Hall, 125 Chautauqua Avenue, Lakewood, NY 14750.
Town of Carroll | Carroll Municipal Building, 5 W Main Street, Frewsburg, NY 14738.
Town of Charlotte | Sinclairville Clerk's Office, 8 Lester Street, Sinclairville, NY 14782.
Town of Chautauqua | Chautauqua Municipal Building, 2 Academy Street, Mayville, NY 14757.
Town of Cherry Creek | Town Hall, 618 Center Street, Cherry Creek, NY 14723.
Town of Clymer | Clerk's Office, 562 Clymer-Sherman Road, Clymer, NY 14724.
Town of Dunkirk | Town Hall, 4737 Willow Road, Dunkirk, NY 14048.
Town of Ellery | Ellery Town Offices, 25 Sunnyside Avenue, Bemus Point, NY 14712.
Town of Ellicott | Ellicott Administration Offices, 215 S Work Street, Falconer, NY 14733.
Town of Ellington | Town Hall, 813 W Main Street, Ellington, NY 14732.
Town of French Creek | French Creek Town Hall, 10106 Ravlin Hill Road, Clymer, NY 14724.
Town of Gerry | Town Hall, 4519 NY-60, Gerry, NY 14740.
Town of Hanover | Hanover Town Hall, 68 Hanover Street, Silver Creek, NY 14136.
Town of Harmony | Harmony Town Hall, 1001 Blockville Watts Flats Road, Ashville, NY 14710.
Town of Kiantone | Kiantone Town Hall, 1521 Peck Settlement Road, Jamestown, NY 14701.
Town of Mina | Mina-Findley Lake Community Center, 2883 North Road, Findley Lake, NY 14736.
Town of North Harmony | North Harmony Town Hall, 5350 Stow Road, Ashville, NY 14710.
Town of Poland | Poland Town Hall, 3593 Church Street, Kennedy, NY 14747.
Town of Pomfret | Pomfret Town Hall, 9 Day Street, Fredonia, NY 14063.
Town of Portland | Portland Town Hall, 87 W Main Street, Brocton, NY 14716.
Town of Ripley | Town Hall, 14 N State Street, Ripley, NY 14775.
Town of Sheridan | Municipal Complex, 2773 E Main Street, Sheridan, NY 14135.
Town of Sherman | Town Hall, 111A Mill Street, Sherman, NY 14781.
Town of Stockton | Stockton Offices, 7344 Route 380, Stockton, NY 14784.
Town of Villenova | Villenova Town Hall, 1094 Butcher Road, South Dayton, NY 14138.
Town of Westfield | Westfield Town Hall, 23 Elm Street, Westfield, NY 14787.
Village of Bemus Point | Village Hall, 13 Alburtus Avenue, Bemus Point, NY 14712.
Village of Brocton | Village Hall, 34 W Main Street, Brocton, NY 14716.
Village of Cassadaga | Village Office, 22 Mill Street, Cassadaga, NY 14718.
Village of Celoron | Village Hall, 21 Boulevard Avenue, Celoron, NY 14720.
Village of Falconer | Clerk's Office, 101 W Main Street, Falconer, NY 14733.
Village of Fredonia | Village Hall, 9-11 Church Street, Fredonia, NY 14063.
Village of Lakewood | Municipal Complex, 20 W Summit Street, Lakewood, NY 14750.
Village of Mayville | Community Building, 1 S Erie Street, Mayville, NY 14757.
Village of Panama | Village Offices, 6 E Main Street, Panama, NY 14767.
Village of Sherman | Village Hall, 111 Mill Street, Sherman, NY 14781.
Village of Silver Creek | Municipal Building, 172 Central Avenue, Silver Creek, NY 14136.
Village of Sinclairville | Clerk's Office, 8 Lester Street, Sinclairville, NY 14782.
Village of Westfield | Town Hall, 23 Elm Street, Westfield, NY 14787.
Patrick County, Virginia and Incorporated Areas
Project: 24-03-0010S Preliminary Date: July 02, 2025
Town of Stuart | Town of Stuart Offices, 100 Patrick Avenue, Stuart, VA 24171.
Unincorporated Areas of Patrick County | Patrick County Administration Building, 106 Rucker Street, Stuart, VA 24171.

[FR Doc. 2026-01746 Filed 1-28-26; 8:45 am]

BILLING CODE 9110-12-P